DEPARTMENT OF COMMERCE

National Oceanic and Atmospheric Administration

50 CFR Part 600

[Docket No. 020424095-2095-01; I.D. 032801B]

RIN 0648-AP25

Fishing Capacity Reduction Program for the Crab Species Covered by the Fishery Management Plan for the Bering Sea/Aleutian Islands King and Tanner Crabs

AGENCY: National Marine Fisheries Service, National Oceanic and Atmospheric Administration, Commerce.

ACTION: Correction to a proposed rule.

SUUMMARY: This document corrects the formula for calculating the bid score in the preamble to the proposed rule for establishing a fishing capacity reduction program for the crab species managed under the Bering Sea/Aleutian Islands King and Tanner Crab Fishery Management Plan (FMP), as published on December 12, 2002. The numerator and denominator were inadvertently reversed in the first sentence under IV.F. of the preamble. This document also corrects paragraph references. When paragraphs were redesignated, some of the references within the text were not modified accordingly.

DATES: Effective December 30, 2002. Comments on the proposed rule will continue to be accepted until January 27, 2003, as indicated in the December 12, 2002, publication (67 FR 76329). Comments on this correction will be accepted until January 29, 2003.

ADDRESSES: Mail or fax written comments about this correction or the proposed rule to Michael L. Grable. The mailing address is: Michael L. Grable, Chief, Financial Services Division, National Marine Fisheries Service, 1315 East-West Highway, Silver Spring, MD 20910-3282. The fax number is (301) 713-1306. NMFS will not accept e-mail or internet comments.

If a comment involves any aspect of the proposed rule's collection of information requirements, send the comment both to Michael L. Grable and to the National Oceanic and Atmospheric Administration Desk Officer, Office of Information and Regulatory Affairs, Office of Management and Budget, Washington, DC 20503. Anyone may obtain, from Michael L. Grable, the Environmental Assessment, Regulatory Impact Review, and Initial Regulatory Flexibility Analysis for this proposed rule.

Anyone wishing to contact the Restricted Access Management Program (which issues crab species fishing licenses) may do so at this address: Restricted Access Management Program, National Marine Fisheries Service, PO Box 21668, Juneau, AK 99802-1668. The fax number is (907) 586-7354.

FOR FURTHER INFORMATION CONTACT: Michael L. Grable, (301) 713-2390

SUPPLEMENTARY INFORMATION:

Background

On December 12, 2002 (67 FR 76329), NMFS published a proposed rule in the Federal Register that would implement regulations for a program to reduce excess capacity and promote economic efficiency in the crab fishery under the FMP. NMFS would finance the voluntary program's $100 million cost with a 30-year loan to be repaid by post-reduction fishermen.

The deadline for comments on the proposed rule was January 27, 2003. In one portion of the preamble, under the heading “IV. Process Specifics, F. Bid Scoring,” the explanation of how each bid score would be calculated incorrectly reversed the numerator (the bid amount) with the divisor (the value of each reduction vessel's documented crab harvest for crab program purposes (bid crab)). In another portion of the preamble, under IV. Process Specifics, Q. Penalties for Prohibited Activities, last sentence of 4., incorrectly refers to paragraph (u) when it should have referred to paragraph (v).

Also, the following proposed regulatory text provisions of § 600.1018 should have been redesignated as one succeeding paragraph designation after a new paragraph was added: paragraph (k) should have referred to paragraph (j)(2) rather than (i)(2); paragraph (l)(3) should have referred to (l)(1) and (l)(2) rather than to (k)(1) and (k)(2); paragraph (l)(4) should have referred to paragraph (l)(3) rather than (k)(3); paragraph (l)(5) should have referred to paragraph (l)(4) rather than (k)(4); paragraph (n)(1) should have referred to paragraph (m) rather than (l); paragraph (r)(6) should have referred to paragraph (q) rather than (p); paragraph (t)(2)(ii) should have referred to paragraph (s) rather than (r); paragraph (t)(7)(iii) should have referred to paragraph (s) rather than (r); and paragraph (v)(2) should have referred to paragraph (t)(7)(i) rather than (s)(7)(i).

Corrections

In the proposed rule FR Doc. 02-31218, in the issue of December 12, 2002 (67 FR 76329), make the following corrections.

1. On page 76333, in the first column, under F. Bid Scoring the first sentence is corrected to read as follows:

“NMFS would calculate each bid score by dividing each bid amount by the value of each reduction vessel's documented crab harvest for crab program purposes (bid crab).”

2. On page 76336, in the third column, under Q. Penalties for Prohibited Activities 4., the final sentence of this section is corrected to read as follows:

“For further details about the penalties, see this subpart's § 600.1017 and this proposed § 600.1018(v).”

3. § 600.1018 [Corrected]. Beginning on page 76341, paragraphs (k), (l)(4), (l)(5), (r)(6), (t)(2)(ii), (t)(7)(iii), (v)(2), and the first sentences of paragraphs (l)(3) and (n)(1) are corrected to read as follows:

§ 600.1018 Crab species program.

* * * * *

(k) Determining bid score. NMFS will determine each bid score by dividing each bid amount by the sum in paragraph (j)(2) of this section.

* * * * *

(l) Determining reduction loan sub-amount—

(1) * * *

(3) Each fishery as a percentage of all fisheries. NMFS will divide each of the sums in paragraph (l)(1) of this section by the sum in paragraph (l)(2) of this section.

* * * * *

(4) Applying percentages to loan amount. NMFS will multiply the reduction loan's full original principal amount by each of the yields in paragraph (l)(3) of this section; and

(5) Loan sub-amount. Each of the amounts resulting from the calculation in paragraph (l)(4) of this section will be the reduction loan subamount that a reduction endorsement fishery must repay.

* * * * *

(n) Invitation to bid— (1) Notification. At the appropriate point after issuing the notification in paragraph (m) of this section, NMFS will publish the invitation to bid in the Federal Register notification further specified in § 600.1009(c) of this subpart.

* * * * *

(r) Post-bidding referendum—

(1) * * *

(6) Notice that condition fulfilled. If the referendum is successful, NMFS will notify accepted bidders, in the manner that § 600.1010(d)(6)(iii) of this subpart specifies, that a successful referendum has fulfilled the reduction contracts' successful post-bidding referendum condition specified in paragraph (q) of this section.

* * * * *

(t) Reduction payment tender and disbursement—

(1) * * *

(2) Notification to the public.

* * *

(ii) That NMFS intends, in accordance with the reduction contracts, to tender reduction payments in return for the actions specified in paragraph (s) of this section;

* * * * *

(7) Effect of tender.

(i) * * *

(iii) NMFS will fully exercise its reduction contract rights with respect to the reduction fishing interest by taking the actions specified in paragraph (s) of this section.

* * * * *

(v) Fishing prohibition and penalties—

(1) * * *

(2) Prohibitions. Concurrently with NMFS' tender of each reduction payment, and with the sole exception in paragraph (t)(7)(i) of this section, no person whatsoever may, and it is unlawful for any person to:

* * * * *

Authority: 16 U.S.C. 1801 et. seq.

Dated: December 23, 2002.
Rebecca Lent,
Deputy Assistant Administrator for Regulatory Programs, National Marine Fisheries Service.

[FR Doc. 02-32744 Filed 12-27-02; 8:45 am]

BILLING CODE 3510-22-P